DEPARTMENT OF AGRICULTURE

Submission for OMB Review; Comment Request

June 20, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by July 25, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Gypsy Moth Host Materials from Canada.

OMB Control Number: 0579-0142.

Summary of Collection: The United States Department of Agriculture (USDA) is responsible for preventing plant diseases or insect pests from entering the United States, preventing the spread of pests not widely distributed in the United States, and eradicating those imported pests when eradication is feasible. Under the Plant Protection Act (7 U.S.C. 7701 et seq.), the Secretary of Agriculture is authorized to regulate the importation of plants, plant products, and other articles to prevent the introduction of injurious plant pests. The Plant Protection and Quarantine program within USDA's Animal and Plant Health Inspection Service (APHIS) is responsible for ensuring that these regulations are enforced.

Need and Use of the Information: APHIS will collect information from individuals both within and outside the United States using phytosanitary certificates, certificates of origin, a written statement, a compliance agreement and an emergency Action notice. Information collected will ensure that importing foreign logs, trees, shrubs, and other articles do not harbor plant or insect pests such as the gypsy moth. Failing to collect this information would cripple APHIS' ability to ensure that trees, shrubs, logs, and a variety of other items imported from Canada do not harbor gypsy moths.

Description of Respondents: Business or other for-profit; Individuals or households; Federal Government.

Number of Respondents: 2,526.

Frequency of Responses: Reporting: On occasion.

Total Burden Hours: 212.

Animal and Plant Health Inspection Service

Title: Importation of Clementines from Spain.

OMB Control Number: 0579-0203.

Summary of Collection: Under the Plant Protection Act (7 U.S.C. 7701 et seq.), the Secretary of Agriculture is authorized to regulate the importation of plants, plant products, and other articles to prevent the introduction of injurious plant pests. The regulations in “Subpart—Fruits and Vegetables,” 7 CFR 319.56 through 319.56-81, prohibits or restrict the importation of certain fruits and vegetables into the United States from certain parts of the world to prevent the introduction and dissemination of plant pest, including fruit flies. Under the regulations, clementines from Spain are subject to certain conditions before entering the United States to ensure that exotic plant pest, such as the Mediterranean fruit fly, are not introduced into the United States.

Need and Use of the Information: APHIS uses the following information collection activities to allow the importation of Clementines from Spain when the requirements include: Provisions that the Clementines be grown in accordance with a Mediterranean fruit fly management program established by the Government of Spain; Trapping and Control Records; Phytosanitary Certificate; Labeling and Traceback; Cold Treatment Data for Consignments; Trust Fund Agreement; Grower Registration and Agreement; Management Program Mediterranean Fruit Fly Monitoring; Cold Treatment Facility/Carrier Certification; Workplan, Advance Reservations for Cold Treatment Port Space; and Emergency Action Notification.

Failure to collect this information would cripple APHIS' ability to ensure that clementines from Spain are not carrying fruit flies.

Description of Respondents: Business or other for-profit; Federal Government.

Number of Respondents: 23.

Frequency of Responses: Recordkeeping; Reporting: On occasion.

Total Burden Hours: 8,774.

Animal and Plant Health Inspection Service

Title: Importation of Longan from Taiwan.

OMB Control Number: 0579-0351.

Summary of Collection: Under the Plant Protection Act (7 U.S.C 7701), the Secretary of Agriculture is authorized to carry out operations or measures to detect, eradicate, suppress, control, prevent, or retard the spread of plant pests new to the United States or not known to be widely distributed throughout the United States. The fruits and vegetables regulations allow the importation of commercial shipments of fresh longan with stems from Taiwan into the United States. As a condition of entry, the longan will be subject to cold treatment and special port-of-arrival inspection procedures for certain quarantine pests.

Need and Use of the Information: APHIS will use the following information collection activities to allow the import of commercial shipment of fresh longan with stems from Taiwan into the United States: Phytosanitary Certificate, Inspection by NPPOs in Taiwan, Stamping of Boxes and Emergency Action Notification. Failing to collect this information would cripple APHIS ability to ensure that longan from Taiwan are not carrying plant pests.

Description of Respondents: Business or other for-profits; Federal Government.

Number of Respondents: 2.

Frequency of Responses: Reporting: On occasion.

Total Burden Hours: 33.

Animal and Plant Health Inspection Service

Title: Importation of Fresh Pitaya Fruit from Central America into the Continental United States.

OMB Control Number: 0579-0378.

Summary of Collection: Under the Plant Protection Act (7 U.S.C. 7701-7772), the Secretary of Agriculture is authorized to carry out operations or measures to detect, eradicate, suppress, control, prevent, or retard the spread of plant pests new to the United States or not known to be widely distributed throughout the United States. The regulations “Subpart-Fruit and Vegetables” (7 CFR 319.56-1 through 319 56-71), prohibit or restrict the importation of fruits and vegetables into the United States from certain parts of the world to prevent the introduction and dissemination of plant pests that are not widely distributed within the United States. The Animal and Plant Health Inspection Service (APHIS) allows the importation of fresh pitaya fruit from Central America into the continental United States.

Need and Use of the Information: The Animal and Plant Health Inspection Service uses the following activities to collect information: Production Site Certification, Production Site Registration, Review and Maintain Documents, Registration of Packinghouses, Packinghouse Inspections and Investigations, Bilateral Workplans, Records of Fruit Fly Detections and Update Records, Shipping Documents Identifying the Places of Production, Phytosanitary Certificates with Additional Declarations, Box Markings, Production Site Training Program, Emergency Action Notifications, and Notices of Arrival. If the information is not collected, APHIS' ability to protect the United States from plant pest would be severely compromised.

Description of Respondents: Business or other for-profit; Federal Government.

Number of Respondents: 66.

Frequency of Responses: Reporting, Recordkeeping, Third-party disclosure: On occasion.

Total Burden Hours: 1,289.

Ruth Brown,
Departmental Information Collection Clearance Officer.

[FR Doc. 2018-13551 Filed 6-22-18; 8:45 am]

BILLING CODE 3410-34-P